DEPARTMENT OF STATE

[Public Notice: 11924]

Advisory Committee on International Law

ACTION: Notice of open meeting.

SUMMARY: A meeting of the Department of State's Advisory Committee on International Law will take place on Monday, December 12, 2022, from 9:00 a.m. to 3:15 p.m. at the George Washington University Law School, Michael K. Young Faculty Conference Center, 716 20th St. NW, 5th Floor, Washington, DC. Acting Legal Adviser Richard Visek will chair the meeting, which will be open to the public up to the capacity of the meeting room. The meeting will include discussions on the future of the international rules-based order, a special tribunal on the crime of aggression in Ukraine, and developments in international law concerning state responsibility in outer space.

Members of the public who wish to attend should contact the Office of the Legal Adviser by December 8 at rangchitm@state.gov or (202) 485-6590 and provide their name, professional affiliation, address, and phone number. Attendees who require reasonable accommodation should make their requests by December 8. Requests received after that date will be considered but might not be possible to accommodate.

FOR FURTHER INFORMATION CONTACT: Tara M. Rangchi, Executive Director, Advisory Committee on International Law, U.S. Department of State (telephone: (202) 485-6590, email: rangchitm@state.gov).

Tara M. Rangchi,
Executive Director, Advisory Committee on International Law, Department of State.

[FR Doc. 2022-25567 Filed 11-22-22; 8:45 am]

BILLING CODE 4710-08-P